DEPARTMENT OF TRANSPORTATION

Federal Railroad Administration

[Docket Number FRA-2011-0105]

Petition for Waiver of Compliance

In accordance with Part 211 of Title 49 Code of Federal Regulations (CFR), this document provides the public notice that by a document dated December 19, 2011, Railserve Inc. (RSSX) of Atlanta, GA, has petitioned the Federal Railroad Administration (FRA) for a waiver of compliance from certain provisions of the Federal railroad safety regulations contained at 49 CFR part 223 (Safety Glazing Standards—Locomotives, Passenger Cars and Cabooses). FRA assigned the petition Docket Number FRA-2011-0105.

RSSX has petitioned for a permanent waiver of compliance for one locomotive, RSSX 1, from the requirements contained at 49 CFR 223.11-Requirements for existing locomotives; specifically, the requirements for FRA Type I material in the forward and rearward end-facing glazing locations of the locomotive cab windshield as well as FRA Type II material in all side-facing windows of the locomotive cab. RSSX states that it is a small switching operation inside the premises of the agribusiness company Cargill Inc. in Memphis, TN, and that it interchanges with Norfolk Southern Railway for cars inbound and outbound for the Cargill facility only, over a track that is less than a quarter of a mile. These switching operations occur at restricted speed that is 5 mph or less. RSSX further states that it does not have a history of vandalism inside the grounds of the Cargill facility. RSSX is requesting this relief on account of the prohibitive cost involved in retrofitting the locomotive with FRA-certified glazing. RSSX intends to install hurricane and/or safety glass if approved, which will maintain safety.

A copy of the petition, as well as any written communications concerning the petition, is available for review online at www.regulations.gov and in person at the U.S. Department of Transportation's (DOT) Docket Operations Facility, 1200 New Jersey Avenue, SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 4, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on December 17, 2012.
Robert C. Lauby,
Deputy Associate Administrator for Regulatory and Legislative Operations.

[FR Doc. 2012-30868 Filed 12-20-12; 8:45 am]

BILLING CODE 4910-06-P